DEPARTMENT OF EDUCATION

34 CFR Parts 600, 649, 668, 674, 675, 676, 682, 685, 690 and 693

RIN 1840-AC47

Institutional Eligibility Under the Higher Education Act of 1965, as Amended (HEA); Patricia Roberts Harris Fellowship Program; Student Assistance General Provisions; Federal Perkins Loan Program; Federal Work-Study Programs; Federal Supplemental Educational Opportunity Grant Program; Federal Family Education Loan Program; William D. Ford Federal Direct Loan Program; Federal Pell Grant Program; and National Early Intervention Scholarship and Partnership Program

AGENCY: Department of Education.

ACTION: Final regulations.

SUMMARY: The Secretary amends §§ 600.55 and 600.56 of the Institutional Eligibility regulations to effectuate Pub. L. 108-98, a recent enactment with a retroactive effective date of October 1, 1998.

The Secretary also is amending the Institutional Eligibility, Patricia Roberts Harris Fellowship Program, Student Assistance General Provisions, Federal Perkins Loan Program, Federal Work-Study Programs, Federal Supplemental Educational Opportunity Grant Program, Federal Family Education Loan (FFEL) Program, William D. Ford Federal Direct Loan Program, Federal Pell Grant Program, and National Early Intervention Scholarship and Partnership (NEISP) Program regulations. These technical revisions are necessary to correct cross-references, delete references to programs that are no longer funded, and make a number of nomenclature changes that provide the correct names of various Title IV, HEA programs.

EFFECTIVE DATE: The amendments to §§ 600.55 and 600.56 of the Institutional Eligibility regulations are effective retroactively to October 1, 1998. All of the other amendments take effect April 15, 2004.

FOR FURTHER INFORMATION CONTACT: Lorraine Kennedy, U.S. Department of Education, 1990 K Street, NW., room 8018, Washington, DC 20006. Telephone: (202) 502-7762. Jackie Butler, U.S. Department of Education, 1990 K Street, NW., room 8062, Washington, DC 20006. Telephone: (202) 502-7890. If you use a telecommunications device for the deaf (TDD), you may call the Federal Information Relay Service (FIRS) at 1-800-877-8339.

Individuals with disabilities may obtain this document in an alternative format (e.g., Braille, large print, audiotape, or computer diskette) on request to the contact person listed under FOR FURTHER INFORMATION CONTACT.

SUPPLEMENTARY INFORMATION: The regulations governing Institutional Eligibility under the Higher Education Act of 1965, as amended, 34 CFR part 600; Patricia Roberts Harris Fellowship Program, 34 CFR part 649; the Student Assistance General Provisions regulations, 34 CFR part 668; Federal Perkins Loan Program, 34 CFR part 674; Federal Work-Study Programs, 34 CFR part 675; Federal Supplemental Educational Opportunity Grant Program, 34 CFR part 676; Federal Family Education Loan Program, 34 CFR part 682; William D. Ford Federal Direct Loan Program, 34 CFR part 685; Federal Pell Grant Program, 34 CFR part 690; and National Early Intervention Scholarship and Partnership Program, 34 CFR part 693 are amended to provide certain clarifications, to correct errors and omissions, and to remove references to Title IV, HEA programs that are no longer authorized or funded.

Sections 600.55 and 600.56 of the Institutional Eligibility regulations are revised to conform with newly-enacted Public Law 108-98. That legislation corrected technical errors in the Higher Education Amendments of 1998 by removing inadvertent barriers to institutional eligibility that applied to public and non-profit foreign veterinary schools, as well as to Canadian medical schools. Consistent with the legislation, the conforming changes to the regulations are effective retroactively to October 1, 1998.

Section 600.57(a) of the Institutional Eligibility regulations has been amended to establish the maximum duration of a program participation agreement for foreign institutions as six years from the date of the Secretary's certification determination. This change conforms the regulations to the Higher Education Amendments of 1998, Pub. L. 105-244, which extended the maximum period of time that an institution may be certified to participate in the Title IV, HEA programs from four to six years.

These regulations remove part 649 from 34 CFR because the Patricia Roberts Harris Fellowship Program is no longer authorized by the HEA.

The expected family contribution (EFC) definition has been removed from the individual program regulations for the Federal Perkins Loan Program, Federal Work-Study Programs, Federal Supplemental Educational Opportunity Grant Program, Federal Family Education Loan Program, William D. Ford Federal Direct Loan Program, and Federal Pell Grant Program and is now listed instead in the Student Assistance General Provisions under the General Definitions in § 668.2. This change was made to centralize the definitions used in the Title IV, HEA program regulations.

We have removed the reference to the ALAS Program in the definition of Federal Supplemental Loans for Students in § 668.2 because the ALAS program is no longer authorized by the HEA.

The definition of parent in § 668.2 has been changed by deleting the discussion of “legal guardian”, to conform with the definition of parent in Part F of the Higher Education Act of 1965, as amended.

The reference to the National Early Intervention Scholarship and Partnership Program (NEISP) in § 668.26(b)(5) has been removed because the program is no longer authorized by the HEA.

Section 668.26 has been amended by removing paragraphs (d)(2)(iv) and (e)(3) and redesignating paragraph (d)(2)(v) as (d)(2)(iv). Section 668.26(d)(2) lists the circumstances under which an institution whose participation in the Title IV programs has ended may disburse an FFEL Program loan. The removed paragraph required that the loan commitment be made prior to the loss of participation. However, this is redundant in light of the requirement that the first disbursement of the loan be made prior to the end of participation. The first disbursement of a loan cannot be made unless a commitment for the loan has been made. This change makes the FFEL requirement similar to the corresponding requirement for Direct Loan Program loans in § 668.26(d)(3)(iii).

These regulations make changes to the Federal Pell Grant Program regulations to move the definition of EFC to the Student Assistance General Provisions regulations, to reflect the changes in transmitting student records because the Secretary no longer accepts magnetic records, to clarify the institutional participation requirements to state that a valid ISIR or valid SAR is needed to determine student eligibility for Title IV assistance, to correct references, and to remove references that are no longer applicable.

These regulations remove part 693 from 34 CFR because the National Early Intervention Scholarship and Partnership (NEISP) Program is no longer authorized by the HEA.

Regulatory Flexibility Act Certification

The Secretary certifies that these regulations will not have a significant economic impact on a substantial number of small entities. The small entities that are affected by these regulations are small institutions of higher education. These regulations contain technical amendments designed to clarify and correct current regulations. The changes will not have a significant economic impact on the institutions affected.

Paperwork Reduction Act of 1995

These regulations do not contain any information collection requirements.

Assessment of Educational Impact

Based on our review, we have determined that these final regulations do not require transmission of information that any other agency or authority of the United States gathers or makes available.

Waiver of Proposed Rulemaking and Negotiated Rulemaking

Under the Administrative Procedure Act (5 U.S.C. section 553) the Department generally offers interested parties the opportunity to comment on proposed regulations. However, these regulations merely reflect statutory changes, make certain technical changes and remove obsolete regulatory provisions. These changes do not establish any new substantive rules. Furthermore, the changes to §§ 600.55 and 600.56 effectuate a recent technical amendment to the HEA. That amendment, in Pub. L. 108-98, has a retroactive effective date and has no adverse effect on substantive rights or obligations of individuals or institutions.

For these reasons, the Secretary has determined that proposed regulations are unnecessary and contrary to the public interest. For the same reasons, the Secretary has determined, under section 492(b)(2) of the Higher Education Act of 1965, as amended, that the changes should not be subject to negotiated rulemaking.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.gpoaccess.gov/nara/index.html.

List of Subjects in 34 CFR Parts 600, 649, 668, 674, 675, 676, 682, 685, 690, and 693

Administrative practice and procedure, Colleges and universities, Consumer protection, Education, Grant programs-education, Loan programs-education, Reporting, Vocational education and recordkeeping requirements, Student aid.

Dated: March 10, 2004.
Sally L. Stroup,
Assistant Secretary, Office of Postsecondary Education.

The Secretary amends parts 600, 649, 668, 674, 675, 676, 682, 685, 690 and 693 of the Code of Federal Regulations as follows:

PART 600—INSTITUTIONAL ELIGIBILITY UNDER THE HIGHER EDUCATION ACT OF 1965, AS AMENDED

1. The authority citation for part 600 continues to read as follows:

Authority: 20 U.S.C. 1001, 1002, 1003, 1088, 1091, 1094, 1099b, and 1099(c), unless otherwise noted.

2. The authority citations for §§ 600.55 and 600.56 are revised to read as follows:

(Authority: 20 U.S.C. 1002, 1082)

§ 600.55 [Amended]

3. Section 600.55(a)(5)(i)(B) is amended by removing the word “At” and adding, in its place, “For a foreign graduate medical school outside of Canada, at”.

§ 600.56 [Amended]

4. Section 600.56 is amended by:

A. In paragraph (a)(4), removing “Either—”

B. Removing paragraph (a)(4)(i).

C. Redesignating paragraph (a)(4)(ii) as (a)(4).

D. In redesignated paragraph (a)(4), removing the words “The veterinary” and adding, in their place, “For a veterinary school that is neither public nor private non-profit, the”.

§ 600.57 [Amended]

5. Section 600.57(a) is amended by removing “four” and adding, in its place, “six”.

PART 649—PATRICIA ROBERTS HARRIS FELLOWSHIP PROGRAM

6. Part 649 is removed and reserved.

PART 668—STUDENT ASSISTANCE GENERAL PROVISIONS

7. The authority citation for part 668 continues to read as follows:

Authority: 20 U.S.C. 1001, 1002, 1003, 1085, 1091, 1091b, 1092, 1094, 1099c, and 1099c-1, unless otherwise noted.

§ 668.2 [Amended]

8. Section 668.2(b) is amended by adding “(Authority: 20 U.S.C. 1088)” immediately following the definition of “Enrolled”, revising the definitions of “Federal Supplemental Loans for Students (Federal SLS) Program” and “Parent”, and by adding, in alphabetical order, a new definition of “Expected Family Contribution”.

The revisions and addition read as follows:

§ 668. Definitions.

* * * * *

(b) * * *

Expected family contribution (EFC): The amount, as determined under title IV, part F of the HEA, an applicant and his or her spouse and family are expected to contribute toward the applicant's cost of attendance.

* * * * *

Federal Supplemental Loans for Students (Federal SLS) Program: The loan program authorized by Title IV-B, section 428A of the HEA, as in effect for periods of enrollment that began before July 1, 1994. The Federal SLS Program encourages the making of loans to graduate, professional, independent undergraduate, and certain dependent undergraduate students.

(Authority: 20 U.S.C. 1078-1)

* * * * *

Parent: A student's biological or adoptive mother or father or the student's stepparent, if the biological parent or adoptive mother or father has remarried at the time of application.

* * * * *

§ 668.26 [Amended]

9. Section 668.26 is amended by:

A. In paragraph (b)(5), removing “NEISP or”.

B. Revising paragraph (d)(2)(iii);

C. Removing paragraph (d)(2)(iv); and

D. Redesignating paragraph (d)(2)(v) as paragraph (d)(2)(iv).

E. In paragraph (e)(1), adding the word “and” after the semicolon.

F. In paragraph (e)(2), removing “; and” and adding, in its place, “.”.

G. Removing paragraph (e)(3).

The revision reads as follows:

668.26 End of an institution's participation in the Title IV, HEA programs.

* * * * *

(d) * * *

(2) * * *

(iii) The loan was made for attendance during that period of enrollment.

* * * * *

§ 668.40 [Amended]

10. Section 668.40 is transferred from subpart D to subpart C.

§ 668.44 [Amended]

11. Section 668.44(a)(1) is amended by removing “§§ 668.43 and 668.44” and adding, in its place, “§§ 668.42, 668.43, 668.45 and 668.46”.

§ 668.48 [Amended]

12. Section 668.48(d) is amended by removing “§ 668.46(e)” and adding, in its place, “§ 668.45(e)”.

§ 668.52 [Amended]

13. Section 668.52 is amended by removing the definition of “Expected family contribution”.

§ 668.55 [Amended]

14. Section 668.55(d)(1) is amended by removing “ther” and adding, in its place, “the”.

§ 668.90 [Amended]

15. The heading for § 668.90 is amended by removing “—Appeals”.

§ 668.167 [Amended]

16. Section 668.167(d)(3)(ii) is amended by removing “§ 668.164” and adding, in its place, “§ 668.163”.

§ 668.198 [Amended]

17. Section 668.198 is amended by:

A. In the introductory text to paragraph (b), removing ”, 2000, or 2001,” and adding, in its place, “ through 2003”.

B. In paragraph (c)(1), by removing “2002” and adding, in its place, “2004”.

C. In paragraph (f)(1), by removing ”, 2000, or 2001” and adding, in its place, “ through 2003”.

PART 674—FEDERAL PERKINS LOAN PROGRAM

18. The authority citation for part 674 continues to read as follows:

Authority: 20 U.S.C. 1087aa-1087hh and 20 U.S.C. 421-429, unless otherwise noted.

§ 674.2 [Amended]

19. Section 674.2 is amended by:

A. In paragraph (a), adding, in alphabetical order, “Expected family contribution (EFC)”.

B. In paragraph (b), removing the definition of “Expected family contribution”.

PART 675—FEDERAL WORK-STUDY PROGRAMS

20. The authority citation for part 675 continues to read as follows:

Authority: 42 U.S.C. 2751-2756b, unless otherwise noted.

§ 675.2 [Amended]

21. Section 675.2 is amended by:

A. In paragraph (a), adding, in alphabetical order, “Expected family contribution (EFC)”.

B. In paragraph (b), removing the definition of “Expected family contribution”.

PART 676—FEDERAL SUPPLEMENTAL EDUCATIONAL OPPORTUNITY GRANT PROGRAM

22. The authority citation for part 676 continues to read as follows:

Authority: 20 U.S.C. 1070b-1070b-3, unless otherwise noted.

§ 676.2 [Amended]

23. Section 676.2 is amended by:

A. In paragraph (a), adding, in alphabetical order, “Expected family contribution (EFC)”.

B. In paragraph (b), removing the definition of “Expected family contribution”.

PART 682—FEDERAL FAMILY EDUCATION LOAN (FFEL) PROGRAM

24. The authority citation for part 682 continues to read as follows:

Authority: 20 U.S.C. 1071 to 1087-2, unless otherwise noted.

§ 682.200 [Amended]

25. Section 682.200 is amended by:

A. In paragraph (a)(1), adding, in alphabetical order, “Expected family contribution”.

B. In paragraph (b), removing the definition of “Expected family contribution”.

PART 685—WILLIAM D. FORD FEDERAL DIRECT LOAN PROGRAM

26. The authority citation for part 685 continues to read as follows:

Authority: 20 U.S.C. 1087a et seq., unless otherwise noted.

§ 685.102 [Amended]

27. Section 685.102 is amended by:

A. In paragraph (a)(1), adding, in alphabetical order, “Expected family contribution”.

B. In paragraph (a)(3), removing the words “Expected family contribution”.

PART 690—FEDERAL PELL GRANT PROGRAM

28. The authority citation for part 690 continues to read as follows:

Authority: 20 U.S.C. 1070a, unless otherwise noted.

§ 690.2 [Amended]

29. Section 690.2 is amended by:

A. In paragraph (a), removing “definitions of the following terms used in this part are set forth in subpart A of the Student Assistance General Provisions, 34 CFR part 668” and adding, in its place, “following definitions are contained in the regulations for Institutional Eligibility under the Higher Education Act of 1965, as amended, 34 CFR part 600” and removing the term “payment period” from the alphabetical list of terms.

B. In paragraph (b), removing “Definitions of the following terms used in this part are described” and adding, in its place, “The following definitions are contained”, removing the term “eligible student” and adding, in alphabetical order, the terms “Expected family contribution”, “Payment period”, and “Student eligibility”.

C. In paragraph (c), removing the “Expected family contribution” definition.

D. In paragraph (c), in the “Institutional Student Information Record (ISIR)” definition, removing “A paper document or a computer-generated” and adding, in its place “An”, removing “central processor” and adding, in its place, “Secretary”, and removing “calculated by the central processor” in paragraph (3).

E. In paragraph (c), in the “Payment Data” definition, removing “or magnetic” and “a student's expected family contribution, cost of attendance, enrollment status, and”.

F. In paragraph (c), in the “Payment Schedule” definition, paragraph (1), removing “expected family contribution, as determined in accordance with part F of title IV of the HEA” and adding, in its place, “EFC”.

G. In paragraph (c), in the “Student Aid Report (SAR)” definition, by adding “by the Secretary” immediately after “applicant”.

H. In paragraph (c), in the “Three-quarter-time student” definition, adding “as defined in 34 CFR part 668” at the end of the paragraph.

§ 690.7 [Amended]

30. Section 690.7(b) is amended by adding ”, or for whom the institution obtained a valid ISIR,” immediately after “to the institution”.

§ 690.61 [Amended]

31. Section 690.61 is amended by:

A. In paragraph (a)(1), adding “and electronically transmit Federal Pell Grant disbursement data to the Secretary for that student” immediately after “disbursement”.

B. Removing paragraphs (a)(1)(ii)(A) and (a)(1)(ii)(B).

§ 690.63 [Amended]

32. Section 690.63(g)(2) is amended by removing “668.2 and”.

§ 690.78 [Amended]

33. Section 690.78(c)(5) is amended by removing “(d)(4)” and adding, in its place, “(c)(4)”.

PART 693—NATIONAL EARLY INTERVENTION SCHOLARSHIP AND PARTNERSHIP PROGRAM

34. Part 693 is removed and reserved.

[FR Doc. 04-5821 Filed 3-15-04; 8:45 am]

BILLING CODE 4000-01-P